DEPARTMENT OF HOMELAND SECURITY

Coast Guard

33 CFR Part 165

[Docket Number USCG-2022-0082]

RIN 1625-AA87

Security Zone; Naval Submarine Base New London, Groton, CT

AGENCY: Coast Guard, DHS.

ACTION: Notice of proposed rulemaking.

SUMMARY: The Coast Guard is proposing to modify the security zone boundaries surrounding Naval Submarine Base New London in Groton, CT. The proposed amendment to the security zone is to encompass the entire operational area of the Naval Submarine Base. We invite your comments on this proposed rulemaking.

DATES: Comments and related material must be received by the Coast Guard on or before May 27, 2022.

ADDRESSES: You may submit comments identified by docket number USCG-2022-0082 using the Federal Decision Making Portal at https://www.regulations.gov. See the “Public Participation and Request for Comments” portion of the SUPPLEMENTARY INFORMATION section for further instructions on submitting comments.

FOR FURTHER INFORMATION CONTACT: If you have questions about this proposed rulemaking, call or email Marine Science Technician 2nd Class Mark Paget, Waterways Management Division, Sector Long Island Sound; telephone: (203) 468-4583; email: Mark.A.Paget@uscg.mil.

SUPPLEMENTARY INFORMATION:

I. Table of Abbreviations

CFR Code of Federal Regulations

COTP Captain of the Port Long Island Sound

CT Connecticut

DHS Department of Homeland Security

FR Federal Register

NPRM Notice of proposed rulemaking

§ Section

U.S.C. United States Code

II. Background, Purpose, and Legal Basis

On August 15, 2003 the Coast Guard published a final rule entitled “Regulated Navigation Areas, Safety and Security Zones; Long Island Sound Marine Inspection and Captain of the Port Zone” in the Federal Register (68 FR 48798). With this rule we added 33 CFR 165.153 creating a regulated navigation area establishing a speed restriction in the vicinity of Naval Submarine Base New London and the Lower Thames River.

Later, on February 10, 2012, the Coast Guard published a final rule entitled “Special Local Regulations; Safety and Security Zones; Recurring Events in Captain of the Port Long Island Sound Zone” in the Federal Register (77 FR 6955). With this rule we added 33 CFR 100.100 and revised §§ 165.151 and 165.154. The changes removed 37 regulated areas, established 33 new safety zones, three special local regulations, one security zone, and consolidatde and simplified these regulations.

The Naval Submarine Base New London, Groton, CT, is the home to a portion of the U.S. Navy's Fast Attack Nuclear Submarines. During a recent security assessment of the base, it was determined that the existing security zone does not adequately cover the entirety of naval assets, piers, or planned pier extension projects. Therefore, Naval Submarine Base New London has requested to expand the existing security zone to safeguard its waterfront facility and its naval vessels while moored from destruction, loss, or injury from sabotage or other subversive acts, or other causes of a similar nature.

The purpose of this rulemaking is to modify and expand the existing security zone cited in 33 CFR 165.154(a)(3). The Captain of the Port Long Island Sound (COTP) proposes to modify current points in the boundary of the security zone. This would allow the zone to completely encompass the security barriers and allow room for planned pier expansion projects.

III. Discussion of Proposed Rule

Part 165 of 33 CFR contains specific regulated navigation areas and limited access areas to prescribe general regulations for different types of limited or controlled access areas and regulated navigation areas and list specific areas and their boundaries. Section 165.154 establishes Safety and Security Zones: Captain of the Port Long Island Sound Zone.

The Coast Guard proposes to modify the location of the existing security zone listed in 33 CFR 165.154(a)(3) Safety and Security Zones: Captain of the Port Long Island Sound Zone, to expand the zone, as indicated in the illustration below. This expansion would allow the zone to completely encompass the security barriers and allow room to expand piers as required.

BILLING CODE 9110-04-P

BILLING CODE 9110-04-C

IV. Regulatory Analyses

We developed this proposed rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This NPRM has not been designated a “significant regulatory action,” under Executive Order 12866. Accordingly, the NPRM has not been reviewed by the Office of Management and Budget (OMB).

This regulatory action determination is based on the size, location, and duration of the security zone. Vessel traffic would be able to safely transit around the security zone which would impact a small designated area of the Thames River.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the security zone may be small entities, for the reasons stated in section IV.A above, this proposed rule would not have a significant economic impact on any vessel owner or operator.

If you think that your business, organization, or governmental jurisdiction qualifies as a small entity and that this proposed rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the potential effects of this proposed rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves a security zone to limit access near Naval Submarine Base New London, Groton, CT. Normally such actions are categorically excluded from further review under paragraph L60a of Appendix A, Table 1 of DHS Instruction Manual 023-01-001-01, Rev. 1. A preliminary Record of Environmental Consideration supporting this determination is available in the docket. For instructions on locating the docket, see the ADDRESSES section of this preamble. We seek any comments or information that may lead to the discovery of a significant environmental impact from this proposed rule.

G. Protest Activities

The Coast Guard respects the First Amendment rights of protesters. Protesters are asked to call or email the person listed in the FOR FURTHER INFORMATION CONTACT section to coordinate protest activities so that your message can be received without jeopardizing the safety or security of people, places, or vessels.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision Making Portal at https://www.regulations.gov. To do so, go to https://www.regulations.gov, type USCG-2022-0082 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects in 33 CFR Part 165

Harbors, Marine Safety, Navigation (water), Reporting and recordkeeping requirements, Security Measures, Waterways.

For the reasons discussed in the preamble, the Coast Guard is proposing to amend 33 CFR part 165 as follows

PART 165—REGULATED NAVIGATION AREAS AND LIMITED ACCESS AREAS.

1. The authority citation for part 165 continues to read as follows:

Authority: 46 U.S.C. 70034, 70051; 33 CFR 1.05-1, 6.04-1, 6.04-6 and 160.5; Department of Homeland Security Delegation No. 00170.1, Revision No. 01.2.

2. Amend § 165.154 by revising paragraph (a)(3) to read as follows:

§ 165.154 Safety and Security Zones; Captain of the Port Long Island Sound Zone Safety and Security Zones.

(a) * * *

(3) Naval Submarine Base New London, Groton, CT (i) Location. All navigable waters of the Thames River, from surface to bottom, West of Naval Submarine Base New London, Groton, CT, enclosed by a line beginning at a point on the shoreline at 41°23′7.9″ N, 072°05′13.7″ W; then to 41°23′7.9″ N, 072°05′16.9″ W; then to 41°22′50.3″ N, 072°05′30.8″ W; then to 41°23′42.9″ N, 072°05′40.1″ W; then to 41°23′46.7″ N, 072°05′42.3″ W; then to 41°23′53.9″ N, 072°05′44.5″ W; then to 41°24′8.7″ N, 072°05′44.5″ W; then to 41°24′16.2″ N, 072°05′43.4″ W; then to a point on the shoreline 41°24′16.2″ N, 072°05′36.4″ W; then along the shoreline to the point of beginning (NAD 83).

(ii) [Reserved]

* * * * *

Dated: April 21, 2022.
E.J. Van Camp,
Captain, U.S. Coast Guard, Captain of the Port Long Island Sound.

[FR Doc. 2022-08933 Filed 4-26-22; 8:45 am]

BILLING CODE 9110-04-P